ENVIRONMENTAL PROTECTION AGENCY

40 CFR Part 52

[CT057-7216c: FRL-7030-1]

Approval and Promulgation of Implementation Plans; Connecticut; Ozone

AGENCY: Environmental Protection Agency (EPA).

ACTION: Proposed rule.

SUMMARY: EPA is proposing to approve the ground-level one-hour ozone attainment demonstration State Implementation Plan (SIP) for the Connecticut portion of the New York-Northern New Jersey-Long Island (NY-NJ-CT) severe ozone nonattainment area, submitted by the Connecticut Department of Environmental Protection (CT DEP) on September 16, 1998, as revised to include 2007 motor vehicle emissions budgets and various commitments submitted by the CT DEP on February 8, 2000. EPA is also proposing to approve Connecticut's post-1999 rate-of-progress (ROP) plan SIP and the associated 2002 and 2005 motor vehicle emission budgets for the severe nonattainment area, and a modification to one of the February 8, 2000 commitments, that were submitted for approval via parallel processing on June 4, 2001. The modified commitment is a commitment to perform a mid-course review of the attainment status of the 1-hour ozone severe nonattainment area and the Greater Connecticut serious area by December 31, 2004, instead of by December 31, 2003 as previously committed to. We are also proposing approval of a reasonably available control measure (RACM) analysis submitted by the state. This RACM analysis was submitted for approval via parallel processing on August 2, 2001.

DATES: Comments must be received on or before September 10, 2001.

ADDRESSES: Written comments (in duplicate if possible) should be sent to: David B. Conroy at the EPA Region I (New England) Office, One Congress Street, Suite 1100-CAQ, Boston, Massachusetts 02114-2023. Copies of the State submittals and EPA's Technical Support Document (TSD) for this proposed rule, and other relevant materials are available for public inspection during normal business hours at the following address: U.S. Environmental Protection Agency, Region 1 (New England), One Congress St., 11th Floor, Boston, Massachusetts, telephone (617) 918-1664, and at the Bureau of Air Management, Department of Environmental Protection, State Office Building, 79 Elm Street, Hartford, CT 06106, telephone (860) 424-3027. Please telephone in advance before visiting.

FOR FURTHER INFORMATION CONTACT: Richard P. Burkhart (617) 918-1664.

SUPPLEMENTARY INFORMATION: Throughout this document, wherever “we,” “us,” or “our” are used, we mean EPA.

This supplemental information section is organized in the following order:

I. Background

A. Basis for Connecticut's Attainment Demonstration SIP.

1. What are the relevant Clean Air Act requirements?

2. What is the history of the state attainment demonstration SIP?

3. What is the time frame for taking action on the attainment demonstration SIP?

B. Background for the Connecticut Submittals and EPA Rulemaking.

C. What is the Status of Connecticut SIP Elements Not Fully Approved at the Time of the December 1999 Proposed Rulemaking?

D. What is EPA Proposing For Approval In This Action?

II. The Connecticut One Hour Ozone Attainment Demonstration for the NY-NJ-CT Area

A. Motor vehicle emission budgets for both VOC and NOX.

B. Enforceable Commitments to Adopt Additional Control Measures.

C. Mid-Course Review.

III. Connecticut's Post-1999 ROP Plan

A. What is a post-1999 ROP plan, and why was Connecticut required to prepare one?

B. What action is EPA taking on this plan?

C. Were any changes made to Connecticut's base year inventory and prior target levels?

D. How did Connecticut account for changes in emissions due to growth?

E. What emission levels must Connecticut achieve by 2002, 2005, and 2007?

F. To what extent do Connecticut's plans reduce ozone precursor emissions?

G. How will Connecticut achieve these emission reductions?

1. NOX Budget Program

2. Municipal Waste Combustor (MWC) Emission Limits

3. On-road Mobile Source Control Programs

4. Federal Non-road Control Programs

H. Will these emission reductions improve air quality in Connecticut?

I. Has Connecticut met its contingency measure obligation?

J. Are transportation conformity budgets contained in these plans?

K. Will any modifications be made to Connecticut's plan?

IV. Reasonably Available Control Measure (RACM) Analysis

A. What are the requirements for RACM Technology?

B. What did Connecticut submit?

C. How does the state analysis address the RACM requirement?

1. Consideration and Implementation of Transportation Control Measures (TCMs).

2. Stationary Source and Area Sources RACM Analysis

D. Does the Connecticut Attainment Demonstration Submittal meet the RACM requirement?

V. Proposed Action

VI. Administrative Requirements

I. Background

A. Basis for Connecticut's Attainment Demonstration SIP

1. What Are the Relevant Clean Air Act Requirements?

The Clean Air Act (Act or CAA) requires EPA to establish National Ambient Air Quality Standards (NAAQS) for certain widespread pollutants that cause or contribute to air pollution that is reasonably anticipated to endanger public health or welfare. In 1979, EPA promulgated the one-hour ground-level ozone standard of 0.12 parts per million (ppm) (120 parts per billion [ppb]). 44 FR 8202 (February 8, 1979).

Ground-level ozone is not emitted directly by sources. Rather, volatile organic compounds (VOC) and oxides of nitrogen ( NOX) which are emitted by a wide variety of sources, react in the presence of sunlight to form ground-level ozone. NOX and VOC are referred to as precursors of ozone.

An area exceeds the one-hour ozone standard each time an ambient air quality monitor records a one-hour average ozone concentration above 0.124 ppm in any given day (only the highest one-hour ozone concentration at the monitor during any 24-hour day is considered when determining the number of exceedance days.) An area violates the ozone standard if, over a consecutive three-year period, more than three days of exceedances occur at any monitor in the area or in its immediate downwind environs.

The highest of the fourth-highest daily peak ozone concentrations over the three-year period at any monitoring site in the area is called the ozone design value for the area. Section 107(d)(4) of the Act, as amended in 1990, required EPA to designate as nonattainment any area that was violating the one-hour ozone standard, generally based on air quality monitoring data from the 1987 through 1989 period. Section 107(d)(4); 56 FR 56694 (November 6, 1991). The Act further classified these areas, based on the area's ozone design values, as marginal, moderate, serious, severe, or extreme. Marginal areas were suffering the least significant ozone nonattainment problems, while the areas classified as severe and extreme had the most significant ozone nonattainment problems.

The control requirements and date by which attainment is to be achieved vary with an area's classification. Marginal areas were subject to the fewest mandated control requirements and had the earliest attainment date, November 15, 1993. Severe and extreme areas are subject to more stringent planning requirements but are provided more time to attain the standard. Serious areas were required to attain the one-hour standard by November 15, 1999, and severe areas are required to attain by November 15, 2005 or November 15, 2007, depending on the areas' ozone design values for 1987 through 1989. The New York-Northern New Jersey-Long Island (NY-NJ-CT) nonattainment area is classified as severe and its attainment date is November 15, 2007. The New York-Northern New Jersey-Long Island nonattainment area includes the portions of northern New Jersey, the New York city metropolitan area and Long Island, and a portion of southwestern Connecticut. The attainment demonstration submitted by the Connecticut DEP addresses the Connecticut portion of the nonattainment area.

An attainment demonstration SIP includes a modeling analysis component showing how the area will achieve the standard by its attainment date and the control measures necessary to achieve those reductions. Section 172(c)(6) of the Act requires SIPs to include enforceable emission limitations, and such other control measures, means or techniques as well as schedules and timetables for compliance, as may be necessary to provide for attainment by the applicable attainment date. Section 172(c)(1) requires the implementation of all reasonably available control measures (including Reasonably Available Control Technology [RACT]) and requires the SIP to provide for attainment of the NAAQS. Section 182(b)(1)(A) requires the SIP to provide for specific annual reductions in emissions of VOC and NOX as necessary to attain the ozone NAAQS by the applicable attainment date. Finally, section 182(j)(1)(B) requires the use of photochemical grid modeling or other methods judged to be at least as effective to demonstrate attainment of the ozone NAAQS in multi-state ozone nonattainment areas. As part of today's proposal, EPA is proposing action on the attainment demonstration SIP revisions submitted by Connecticut for the Connecticut portion of the New York-Northern New Jersey-Long Island severe ozone nonattainment area.

The attainment demonstration SIPs must also include motor vehicle emission budgets for transportation conformity purposes. Transportation conformity is a process for ensuring that states consider the effects of emissions associated with federally-funded transportation activities on attainment of the standard. Attainment demonstrations must include the estimates of motor vehicle VOC and NOX emissions that are consistent with attainment, which then act as a budget or ceiling for the purpose of determining whether transportation plans, programs, and projects conform to the attainment SIP.

2. What Is the History of the State Attainment Demonstration SIP?

Notwithstanding significant efforts by the states, in 1995 EPA recognized that many states in the eastern half of the United states could not meet the November 1994 time frame for submitting an attainment demonstration SIP because emissions of NOX and VOC in upwind states (and the ozone formed by these emissions) affected these nonattainment areas and the full impact of this effect had not yet been determined. This phenomenon is called ozone transport.

On March 2, 1995, Mary D. Nichols, EPA's then Assistant Administrator for Air and Radiation, issued a memorandum to EPA's Regional Administrators acknowledging the efforts made by the states but noting the remaining difficulties in making attainment demonstration SIP submittals.¹ Recognizing the problems created by ozone transport, the March 2, 1995 memorandum called for a collaborative process among the states in the eastern half of the Country to evaluate and address transport of ozone and its precursors. This memorandum led to the formation of the Ozone Transport Assessment Group (OTAG) ² and provided for the states to submit the attainment demonstration SIPs based on the expected time frames for OTAG to complete its evaluation of ozone transport.

¹ Memorandum, “Ozone Attainment Demonstrations,” issued March 2, 1995. A copy of the memorandum may be found on EPA's web site at http://www.epa.gov/ttn/oarpg/t1pgm.html.

² Letter from Mary A. Gade, Director, State of Illinois Environmental Protection Agency to Environmental Council of States (ECOS) Members, dated April 13, 1995.

In June 1997, OTAG concluded and provided EPA with recommendations regarding ozone transport. The OTAG generally concluded that transport of ozone and the precursor NOX is significant and should be reduced regionally to enable states in the eastern half of the country to attain the ozone NAAQS. Building on the OTAG recommendations and technical analyses, in November 1997, EPA proposed action addressing the ozone transport problem. In its proposal, the EPA found that current SIPs in 22 states and the District of Columbia (23 jurisdictions) were insufficient to provide for attainment and maintenance of the one-hour standard because they did not regulate emissions that significantly contribute to ozone transport. 62 FR 60318 (November 7, 1997). The EPA finalized that rule in September 1998, calling on the 23 jurisdictions to revise their SIPs to require NOX emission reductions within each state to a level consistent with a NOX emissions budget identified in the final rule. 63 FR 57356 (October 27, 1998). This final rule is commonly referred to as the SIP Call.³

³ EPA is also requiring regional NOX emission reductions under its authority in section 126 of the Act to assure that reductions occur in upwind areas that have been shown to impact attainment of the ozone standard in downwind areas.

In recognition of the length of the OTAG process, in a December 29, 1997 memorandum, Richard Wilson, EPA's then Acting Administrator for Air and Radiation, provided until April 1998 for states to submit the following elements of their attainment demonstration SIPs for serious and higher classified nonattainment areas: (1) Evidence that the applicable control strategy measures in Title I, Part D, Subpart 2 of the Act, were adopted and implemented or were on an expeditious course to being adopted and implemented; (2) a list of measures needed to meet the remaining ROP emissions reduction requirement and to reach attainment; (3) for severe areas only, a commitment to adopt and submit, by the end of 2000, target calculations for post-1999 ROP and the control measures necessary for attainment and ROP plans through the attainment year; (4) a commitment to implement the SIP control programs in a timely manner and to meet ROP emissions reductions and attainment; and (5) evidence of a public hearing on the state submittal.

Connecticut submitted the required elements on September 16, 1998. EPA published a rulemaking on December 16, 1999 (64 FR 70348), which proposed approval of the September 1998 submittal conditioned on the state submitting some additional material. We identified the following items in the December 16, 1999 rulemaking as conditions upon which we would base our final approval: (1) Motor vehicle emission budgets for both VOC and NOX; (2) control measures necessary to meet the ROP requirement from 1999 to the attainment year of 2007, including target calculations; (3) a commitment to submit additional control measures to make up for the projected need for additional controls to ensure attainment of the one-hour ozone standard by November 2007; and (4) a commitment to perform a mid-course review.

3. What Is the Time Frame for Taking Action on the Attainment Demonstration SIP?

As a result of a settlement agreement with the Natural Resources Defense Council, for various severe one-hour ozone nonattainment area attainment demonstrations that have not been fully approved by October 15, 2001, EPA must propose a full attainment demonstration Federal Implementation Plan (FIP) by that date. If the attainment demonstration has not been fully approved by June 14, 2002, EPA must finalize the FIP by that date. EPA is working with the state of Connecticut on issues identified in this proposal. If those issues can be resolved satisfactorily, EPA will proceed with finalizing a full approval of the attainment demonstration submittal by October 15, 2001, thus eliminating our obligation to propose or promulgate a FIP.

B. Background for the Connecticut Submittals and EPA Rulemaking

On September 16, 1998, the CT DEP submitted a one-hour ozone attainment demonstration for the Connecticut portion of the NY-NJ-CT area to EPA as a revision to the State's SIP. We proposed conditional approval of the plan in a notice published in the Federal Register on December 16, 1999 (64 FR 70348). EPA's proposed conditional approval was based on Connecticut's commitment to submit, by December 2000, rate-of-progress (ROP) target calculations for ROP after 1999 and the adopted measures to achieve post-1999 ROP. On June 4, 2001, the CT DEP submitted its proposed post-1999 ROP for its severe nonattainment area. CT DEP has asked that EPA approve the ROP plan via parallel processing, which is a mechanism whereby we propose action on the SIP revisions concurrent with the State's public hearing process. Connecticut held a public hearing seeking comment on the post-1999 ROP plan on July 10, 2001.

In the December 16, 1999 proposed rulemaking, EPA proposed, in the alternative, to disapprove the attainment demonstration if Connecticut did not submit an adequate motor vehicle emissions budget and a commitment to adopt and submit additional control measures to make up for the projected need for additional controls to ensure attainment of the one-hour ozone standard by November 2007. On February 8, 2000, the CT-DEP submitted revisions to the NY-NJ-CT attainment demonstration which contained 2007 motor vehicle emissions budgets for VOC and NOX. On June 16, 2000, we published a document in the Federal Register announcing that these 2007 budgets are adequate for use in transportation conformity determinations (65 FR 37778).

The February 8, 2000 revisions to the NY-NJ-CT attainment demonstration also contained enforceable commitments for additional control measures to make up for the projected need for additional controls to ensure attainment of the one-hour ozone standard by November 2007. Specifically, Connecticut committed to: (1) Adopt and submit by December 31, 2000, additional NOX limits applicable to municipal waste combustors (MWCs); (2) adopt and submit by October 31, 2001, additional necessary regional control measures to offset the emission reduction shortfall in order to attain the one-hour ozone standard by November 2007; (3) adopt and submit by October 31, 2001, additional necessary intrastate control measures to offset the emission reduction shortfall in order to attain the one-hour ozone standard by November 2007; (4) submit revised 2007 emission budgets using the MOBILE 6 model within one year of the final release of that model; and (5) recalculate and submit revised motor vehicle emission budgets if additional motor vehicle control measures are adopted to address the shortfall in Connecticut.

With the submission of the SIP elements mentioned above, Connecticut has now submitted for approval all of the elements that were the basis of the proposed conditional approval of the attainment demonstration SIP. We now have all of the SIP elements necessary to justify a proposed full approval of the attainment demonstration. We therefore, will not finalize the December 16, 1999 proposed conditional approval, but rather propose full approval of it in this notice as modified by the additional submittals from the CT DEP. However, the State needs to complete its rulemaking process on the elements submitted for parallel processing before we may take final action approving the attainment demonstration. At the time we take final action we will respond to comments received on the December 16, 1999 proposed rulemaking in conjunction with comments received on today's proposed rulemaking.

C. What Is the Status of Connecticut SIP Elements Not Fully Approved at the Time of the December 1999 Proposed Rulemaking?

At the time of the December 16, 1999 proposed conditional approval, there were a number of SIP elements that Connecticut was relying on for attainment purposes but that had not yet been fully approved by EPA. In its December 1999 proposal, EPA said it intended to publish final rules for a number of SIP elements either before or at the same time as publication of final approval of the attainment demonstration. Table 1 below shows the measures Connecticut relied on in the attainment demonstration for the Connecticut portion of the NY-NJ-CT nonattainment area, including the shortfall measures, and their current approval status.

Table 1.—Control Measures in the One-Hour Ozone Attainment Plans for the Connecticut Severe Ozone Nonattainment Area
Name of control measure | Type of measure | Approval status
On-board Refueling Vapor Recovery | Federal rule | Promulgated at 40 CFR 86.
Federal Motor Vehicle Control program | Federal rule | Promulgated at 40 CFR 86.
Federal Non-road Gasoline Engines | Federal rule | Promulgate at 40 CFR 90.
Federal Non-road Heavy Duty diesel engines | Federal rule | Promulgated at 40 CFR 89.
AIM Surface Coatings | Federal rule | Promulgated at 40 CFR 59 subpart D.
Consumer & commercial products | Federal rule | Promulgated at 40 CFR 59 subpart C.
Enhanced Inspection & Maintenance | CAA SIP Requirement | SIP approved (65 FR 64357; 10/27/00).
NOX RACT | CAA SIP Requirement | SIP approved (62 FR 52016; 10/6/97).
VOC RACT pursuant to sections 182(a)(2)(A) and 182(b)(2)(B) of Clean Air Act | CAA SIP Requirement | SIP approved (56 FR 52205; 10/18/91 and 64 FR 12019; 3/10/99).
VOC RACT pursuant to sections 182(b)(2)(A) and (C) of Clean Air Act | CAA SIP Requirement | SIP approved (65 FR 62620; 10/19/00).
Stage II Vapor Recovery | CAA SIP Requirement | SIP approved (58 FR 65930; 10/17/93).
Stage I Vapor Recovery | CAA SIP Requirement | SIP approved (56 FR 52205; 10/18/91).
Reformulated Gasoline | CAA requried program in NYC and Hartford areas. Opt-in to federal program for remainder of state. | Promulgated statewide under 40 CFR section 80.70. also approved for opt-in portion of state as part of 15% plan (64 FR 12015; 3/10/99).
National Low Emission Vehicle (NLEV) | State opt-in | Federal program promulgated at 40 CFR 86 subpart R. Opt-in SIP approved (65 FR 12476; 3/9/00).
Clean Fuel Fleets | CAA SIP Requirement | RFG and I/M reductions substituted—SIP approved (65 FR 12474; 3/9/00).
15% VOC Reduction Plan | CAA SIP Requirement | SIP approved (64 FR 12015; 3/10/99).
Enhanced Rule Effectiveness | State measure | SIP approved (64 FR 12015; 3/10/99.
9% rate of progress plans | CAA SIP Requirement | SIP approved for the first phase from 1996-1999 (65 FR 62624; 10/19/00). Approval pending for the ROP plans post 1999.⁴
OTC NOX MOU Phase II | State initiative | SIP approved (64 FR 52233; 9/28/99).
EPA NOX SIP call | EPA requirement | SIP approved (65 FR 81743; 12/27/00).
Municipal Waste Combustor rule | State initiative | Approval pending. ⁵
Regional or Local Control Measures | State initiative | Approval pending on an enforceable commitment to submit additional control measures. ⁶
⁴ In today's notice, EPA is proposing to approve Connecticut's post 1999 rate of progress plan for the New York-Northern New Jersey-Long Island severe ozone nonattainment area. EPA will take final action on the post-1999 ROP plan before or at the same time as it takes final action on the attainment demonstration.
⁵ Connecticut adopted a regulation effective October 26, 2000 that reduces emissions of NOX from MWCs below previously required levels. On June 4, 2001, Connecticut DEP asked EPA to approve this regulation via parallel processing. EPA will publish final rules for the MWC rule before or at the same time as it publishes final rules on the attainment demonstration.
⁶ Connecticut submitted commitments to adopt and submit by October 31, 2001, all additional intrastate or regional control measures to offset the emission reduction shortfall in order to attain the one-hour ozone standard by November 2007. In today's notice, EPA is proposing to approve these commitments. EPA will take final action on these commitments at the same time as it takes final action on the attainment demonstration.

D. What Is EPA Proposing for Approval in This Action?

We are proposing full approval of SIP revisions that relate to attainment of the one-hour ozone standard in the Connecticut portion of the NY-NJ-CT severe area. The SIP revisions are Connecticut's one hour ozone attainment demonstration for the State's portion of the NY-NJ-CT severe area, various enforceable commitments, and the post-1999 ROP plan. Connecticut's one hour ozone attainment demonstration includes submitted 2007 motor vehicle emissions budgets, which are being proposed for approval. The enforceable commitments we are proposing to approve include: (1) A commitment to adopt and submit by October 31, 2001, additional necessary regional control measures to offset the emission reduction shortfall in order to attain the one-hour ozone standard by November 2007; (2) a commitment to adopt and submit by October 31, 2001, additional necessary intrastate control measures to offset the emission reduction shortfall in order to attain the one-hour ozone standard by November 2007; (3) a commitment to revise the attainment-level 2007 motor vehicle emissions budgets within one year of the date that EPA releases the final version of their motor vehicle emissions model, MOBILE6; (4) a commitment to recalculate and submit revised motor vehicle emissions budgets if any additional motor vehicle control measures are adopted to address the shortfall; and (5) a commitment to perform a mid-course review of the attainment status of the 1-hour ozone nonattainment area by December 31, 2004. Also, EPA is proposing to approve the motor vehicle emissions budgets for 2002 and 2005 contained in Connecticut's post-1999 ROP plan for transportation conformity purposes.

II. The Connecticut One Hour Ozone Attainment Demonstration for the NY-NJ-CT Area

This notice provides limited background information on the attainment demonstration SIP submitted by the CT DEP for the NY-NJ-CT severe ozone nonattainment area. More detail can be found in the proposed conditional approval notice published in the Federal Register on December 16, 1999 (64 FR 70348). EPA will respond to comments received on the December 16, 1999 proposed rulemaking in conjunction with comments received on today's proposed rulemaking.

EPA proposed to conditionally approve Connecticut's commitment to submit ROP target calculations for ROP after 1999 and the adopted measures to achieve post-1999 ROP by December 2000. EPA also proposed, in the alternative, to approve in part and disapprove in part the attainment demonstration if the State did not submit an adequate motor vehicle emissions budget consistent with attainment, and a commitment to the additional measures required for attainment of the standard. In the December 16, 1999 proposal, EPA suggested that Connecticut revise its commitment to provide for the Mid Course Review (MCR) to 2003. (It must be noted, that now, at our suggestion, Connecticut is committing to submit its MCR by December 31, 2004). The following explains how Connecticut has satisfied these requirements.

A. Motor Vehicle Emission Budgets for Both VOC and NOX

On February 8, 2000, Connecticut DEP submitted an addendum to the ozone attainment demonstrations for both the Greater Connecticut serious ozone nonattainment area ⁷ and the Connecticut portion of the NY-NJ-CT severe ozone nonattainment area. The addendum was submitted in response to requirements EPA articulated as necessary for full approval in its proposed conditional approval rulemaking on the attainment demonstration SIP. A public hearing on the addendum was held by the Connecticut DEP on January 6, 2000.

⁷ The attainment demonstration for Greater Connecticut serious ozone nonattainment area, including the February 8, 2000 addendum as it pertained to the Greater Connecticut nonattainment area, was approved by EPA on January 3, 2001 (66 FR 633).

The February 8, 2000 submittal contained 2007 VOC and NOX motor vehicle emissions budgets for the Connecticut portion of the NY-NJ-CT severe nonattainment area. The motor vehicle emissions budgets were calculated to be consistent with requirements Connecticut is relying on in its attainment demonstration for the Connecticut portion of the NY-NJ-CT area. Connecticut also incorporated credit for the Tier 2/sulfur program in calculating the emissions budgets consistent with the issued November 8, 1999 memorandum entitled “1-Hour Ozone Attainment Demonstrations and Tier 2/Sulfur Rulemaking” from Lydia Wegman, Office of Air Quality Planning and Standards and Merrylin Zaw-Mon, Office of Mobile Sources. The motor vehicle emissions budgets for 2007 for VOC and NOX submitted by Connecticut are shown in Table 2.

Table 2.—2007 Transportation Conformity Budgets
One-hour Ozone Nonattainment Area | VOC (tons/day) | NOX (tons/day)
Connecticut portion of the New York-Northern New Jersey-Long Island severe area | 9.7 | 23.7

EPA sent a letter to Connecticut DEP on May 31, 2000 finding these budgets adequate for use in transportation conformity determinations. Our adequacy determination was made subsequent to EPA offering an opportunity for public comment on the Connecticut budgets and addressing all relevant comments received. The public comment period began on these budgets when they were posted on EPA's web site at www.epa.gov/oms/transp/conform/currsips.htm. The public comment period began on February 14, 2000, and closed on March 20, 2000, and no public comments were received by EPA during this period. EPA did receive comments that opposed EPA determining adequate the budgets submitted by Connecticut for transportation conformity purposes during the original comment period on the proposed approval of the attainment demonstration for the Connecticut portion of the NY-NJ-CT area. EPA responded to all of those comments before determining the 2007 budgets adequate. A copy of the response to comments is available at http://www.epa.gov/otaq/transp/conform/reg1sips.htm.

On June 16, 2000 (65 FR 37778), EPA notified the public that we had found the 2007 VOC and NOX motor vehicle emission budgets submitted by Connecticut on February 8, 2000 adequate for conformity purposes. These budgets became effective on July 3, 2000, and satisfied Connecticut's need to submit adequate motor vehicle budgets consistent with attainment.

In the February 8, 2000 addendum to the attainment demonstration for the Connecticut portion of the NY-NJ-CT severe ozone nonattainment area, Connecticut also included, as required by EPA, two commitments that pertain to the motor vehicle emission budgets. The first is a commitment to revise the attainment-level 2007 motor vehicle emissions budgets within one year of the date that EPA releases the final version of their motor vehicle emissions model, MOBILE6. The second is a commitment to recalculate and submit revised motor vehicle emissions budgets if any additional motor vehicle control measures are adopted to address the shortfall. These commitments are consistent with conditions EPA articulated in its December 16, 1999 proposed conditional approval.

B. Enforceable Commitments To Adopt Additional Control Measures

In our December 16, 1999 proposed conditional approval ozone attainment demonstration, EPA said it did not believe the attainment analysis for NY-NJ-CT area proves attainment by the year 2007. An analysis EPA did to further determine how much additional reduction is needed in order for EPA to approve a revised and re-submitted attainment demonstration for this area showed an ozone shortfall of 5 ppb for the NY-NJ-CT severe nonattainment. In other words, our analysis predicts that the NY-NJ-CT area would remain 5 ppb over the NAAQS if Connecticut and its neighbors do not achieve further emission redactions. From this 5 ppb shortfall value we developed additional local emission reduction targets, and we recommended that at a minimum an additional 3.8% VOC and 0.3% NOX reduction from base year 1990 inventories would be necessary to approve a revised and re-submitted attainment demonstration for this area. These additional reductions were to be over and above the CAA measures required for this area and the measures already relied on in the demonstration of attainment. Additionally, since reductions from EPA's Tier 2 tailpipe and low sulfur-in-fuel standards were already included in the EPA analysis, the percent reduction figures were also over and above Tier 2/Sulfur reductions as well. EPA directed the three states within the nonattainment area to work together to achieve these reductions.

In the February 8, 2000 addendum to the attainment demonstration for the Connecticut portion of the NY-NJ-CT severe ozone nonattainment area, Connecticut included enforceable commitments to submit control measures for additional emission reductions to make-up for the shortfall outlined in EPA's December 16, 1999 proposed conditional approval. Connecticut originally calculated the shortfall in emission reductions that it was responsible for as 4.9 tons per summer day (TPSD) of VOC and 0.4 TPSD of NOX based on 1990 base year inventories in the Connecticut portion of the nonattainment area. In Connecticut's February 8, 2000 submittal, the CT DEP committed to adopt additional control measures to achieve these amounts. Specifically, Connecticut committed to: (1) Adopt and submit by December 31, 2000, additional NOX limits applicable to municipal waste combustors (MWCs); (2) adopt and submit by October 31, 2001, additional necessary regional control measures to offset the emission reduction shortfall in order to attain the one-hour ozone standard by November 2007; and (3) adopt and submit by October 31, 2001, additional necessary intrastate control measures to offset the emission reduction shortfall in order to attain the one-hour ozone standard by November 2007.

In its June 4, 2001 submittal to EPA, Connecticut DEP asked EPA to approve via parallel processing the regulation it adopted, effective October 26, 2000, that reduces emissions of NOX from Municipal Waste Combustors (MWC) below previously required levels. In a separate action, EPA will be proposing action on this rule. Because the State has now submitted the MWC rule, we will not take action on the February 8, 2000 commitment regarding the MWC rule; instead, we will take final action on the MWC rule before or at the same time we take final action on the attainment demonstration.

In its June 4, 2001 post-1999 rate of progress plan, Connecticut recalculated the mobile source portions of its 1990 base year inventory in order to use more accurate emission estimation methodologies that have recently become available. For the on-road sector, Connecticut re-calculated emissions using MOBILE 5b inputs consistent with those documented in the State's February, 2000 amendment to its ozone attainment demonstration SIP. This caused emissions to increase primarily because of an adjustment that reflects a greater proportion of VMT by light duty trucks (e.g., sport utility vehicles and pick up trucks.) For off-road engines, Connecticut used EPA's Non-road model. Although this new model has not yet been finalized, it provides a better estimate of emissions from this sector than the previous methodology. As a result of these recalculations, the shortfall in emission reductions for the Connecticut portion of the nonattainment area is now projected to be 5.3 tpsd of VOC and 0.5 tpsd of NOX. It is these revised emission levels that Connecticut is committing to address through the adoption of additional control measures. In today's action, EPA is proposing to approve the enforceable commitments submitted by Connecticut DEP to address the shortfall remaining after the reduction achieved by its MWC rule. The MWC rule has been adopted by the CT DEP (see section G. 2 above). In a June 4, 2001 submittal to EPA, Connecticut articulated that it has narrowed its list of possible control measures for filling the shortfall. Those measures include the model rules developed by the Ozone Transport Commission (OTC). The model rules include measures to reduce VOC from consumer products, portable fuel containers, architectural and industrial maintenance (AIM) coatings, mobile equipment refinishing and repair operations, and solvent cleaning operations. They also include additional NOX controls for fuel combustion sources, including gas turbines, stationary reciprocating engines, and industrial boilers. Connecticut has submitted a draft rule on mobile equipment refinishing and repair operations. A hearing is scheduled for September 15, 2001.

C. Mid-Course Review

A mid-course review (MCR) is a reassessment of modeling analyses and more recent monitored data to determine if a prescribed control strategy is resulting in emission reductions and air quality improvements needed to attain the ambient air quality standard for ozone as expeditiously as practicable but no later than the statutory dates.

EPA believes that a commitment to perform a MCR is a critical element of the weight of evidence (WOE) analysis for the attainment demonstration on which EPA proposed action in December 1999. In order to approve the attainment demonstration SIP for the Connecticut portion of the New York city area, EPA believes that the State must have an enforceable commitment to perform a MCR.

Originally, the Connecticut DEP submitted an enforceable commitment with its attainment demonstration on September 16, 1998. The commitment made was to submit a MCR in the 2001/2002 time frame and an additional MCR in 2005. In our December 16, 1999 proposed conditional approval, EPA suggested that Connecticut revise its commitment to provide for the MCR immediately following the 2003 ozone season, so that the MCR would reflect regional NOX reductions that were scheduled to occur by May 1, 2003 under the NOX SIP call. Connecticut included this commitment in its February 8, 2000 submittal. In the summer of 2000, the Court of Appeals for the DC Circuit in effect extended the May 2003 compliance date for the SIP call until May 2004. Thus, consistent with more recent advice from us, and with the original intent that the MCR reflect the SIP call reductions, Connecticut has proposed to revise the date of submittal of the mid-course review from December 31, 2003 to December 31, 2004. In its June 4, 2001 submittal, Connecticut asks EPA to parallel process this revision to its commitment to do a mid-course review. This SIP revision is for both the Connecticut portion of the NY-NJ-CT severe nonattainment area and the Greater Connecticut area. This proposed date is now in-line with the EPA recommendation for submittal of the mid-course review on the attainment demonstration.

III. Connecticut's Post-1999 ROP Plan

A. What Is a Post-1999 ROP Plan, and Why Was Connecticut Required To Prepare One?

A post-1999 ROP, or rate-of-progress plan, illustrates how an ozone nonattainment area will make emission reductions of a set amount over a given period of time. The CAA requires states containing the highest classified ozone nonattainment areas—those classified as serious, severe, or extreme, to submit SIPs providing for periodic reductions in ozone precursors of a rate of 9% averaged over every three year period, beginning after 1996 and ending with the area's attainment date. CAA section 182(c)(2)(B). These SIP submissions are referred to as Rate-of-Progress, or ROP, plans. There are two ozone nonattainment areas in Connecticut, the Greater Hartford serious area and the Connecticut portion of the NY-NJ-CT severe area. Connecticut was, therefore, subject to the ROP plan requirements of CAA section 182(c)(2)(B).

EPA approved Connecticut's ROP plans that covered the 1996 to 1999 time period in a Federal Register notice dated October 19, 2000 (65 FR 62624). There are no further ROP requirements for the Greater Hartford serious area because section 181(a) of the CAA established November 15, 1999 as the attainment date for serious areas. Section 181(a) of the CAA established November 15, 2007 as the attainment date for severe areas that had a 1988 ozone design value between 0.190 and 0.280 parts per million. The NY-NJ-CT area was one such area, and therefore ROP emission reductions must be demonstrated for this area until 2007. Since Connecticut did not enter into a multi-state agreement with New York and New Jersey to develop a region wide plan for this area, Connecticut's post-1999 ROP plan only accounts for emission reductions from within its portion of the NY-NJ-CT severe area.

On March 2, 1995, EPA Assistant Administrator Mary D. Nichols sent a memorandum to EPA Regional Administrators recognizing the efforts made by states and the remaining difficulties in making the ROP and Attainment Demonstration SIP submittals. As an administrative remedial matter, the March 2, 1995 memorandum indicated that EPA would establish new time frames for certain SIP submittals. One such SIP submittal for which a new time frame was established was the post-1999 ROP plan. The March 2, 1995 Memorandum stated that Post-1999 ROP plans, along with other SIP elements, were to be submitted as part of a “Phase II” submittal by the end of 1999. Although Connecticut did not meet that deadline, it did submit a draft version of the plan to EPA shortly thereafter, and as discussed in this document the plan meets EPA's approval requirements for post-1999 ROP plans.

Connecticut submitted a pre-hearing draft post-1999 ROP plan to EPA on April 11, 2001. The State submitted its draft for public hearing to EPA on June 4, 2001, and requested that EPA parallel process the revision. The State held a public hearing on these ROP plans on July 10, 2001.

The reductions required by section 182 (c)(2)(C) must be calculated from a 1990 baseline, and the plan must describe how any growth in emissions over each applicable 3 year period will be offset. Under section 182(c)(2)(C) of the CAA, NOX reductions can also be used to meet this emission reduction obligation. Available modeling indicates that NOX emission reductions are clearly beneficial in Connecticut, and so, as outlined in EPA's December, 1993 NOX substitution guidance, use of NOX emission reductions to meet post-1996 emission reduction obligations is appropriate in the State.

The manner in which States are to determine the required level of emission reductions is described in an EPA guidance document entitled, “Guidance on the Post-1996 Rate-of-Progress Plan and the Attainment Demonstration” (EPA 452-93-015.) The calculation procedure is similar to the one used to determine prior ROP obligations in Connecticut.

B. What Action Is EPA Taking on This Plan?

We are proposing approval of the post-1999 ROP emission reduction plan submitted by the State of Connecticut for the State's portion of the NY-NJ-CT severe ozone nonattainment area, which is a multi-state ozone nonattainment area, as a revision to Connecticut's SIP. Connecticut did not enter into an agreement with New York and New Jersey to do a multi-state ROP plan, and therefore submitted a plan to reduce emissions only in the Connecticut portion of this area. EPA is proposing action today only on the Connecticut portion of the NY-NJ-CT post-1999 plan.

The post-1999 ROP plan documents how Connecticut complied with the provisions of section 182 (c)(2) of the Act. These sections of the Act require states containing certain ozone nonattainment areas develop strategies to reduce emissions of the pollutants that react to form ground level ozone.

C. Were Any Changes Made to Connecticut's Base Year Inventory and Prior Target Levels?

Before deriving its post-1999 emission target levels, Connecticut recalculated the mobile source portions of its 1990 base year inventory in order to use more accurate emission estimation methodologies that have recently become available. Connecticut chose to use new, more accurate emission estimation methodologies for the on-road and off-road source categories in the establishment of its post-1999 ROP emission target levels. For the on-road sector, Connecticut re-calculated emissions using MOBILE 5b inputs consistent with those documented in the State's February, 2000 amendment to its ozone attainment demonstration SIP. This caused emissions to increase primarily because of an adjustment that reflects a greater proportion of VMT by light duty trucks (e.g., sport utility vehicles and pick up trucks.) For off-road engines, Connecticut used EPA's Non-road model. Although this new model has not yet been finalized, it provides a better estimate of emissions from this sector than the previous methodology. The new model improves upon methodologies contained in EPA's original non-road emissions estimates, which are contained in the document “Non-road Engine and Vehicle Emission Study Report” (Publication nos. EPA-21A-2001; EPA460/3-91-002). This report of emissions from non-road engines is referred to as the 1991 “NEVES” study.

Since Connecticut desired to use these new emission estimation methodologies in its post-1999 ROP calculations, it had to recalculate its 1990 emission baseline for these source categories using these improved methodologies to ensure that no emission reduction credits were generated simply because of differences in emission estimation procedures in the base year and projected emission inventories. As a result of the change to the base year emission estimates, and because the post-1999 ROP emission target levels are calculated from the prior ROP emission target levels, Connecticut also re-calculated its 15 percent and post-1996 ROP emission target levels. This recalculation of the 1996 and 1999 emission target levels does not alter the previously approved emission targets for these years approved as part of the State's 15 percent ROP plan (64 FR 12015) and post-1996 ROP plan (65 FR 62624), as it is not EPA policy to require that States revise previously approved ROP plans due to changes in ever-evolving emission estimation methodology.

Table 3 below shows the State's original data, and the new estimates that are now being used due to the change to the emission estimation methodology for on-road and off-road sources.

Table 3.—Original and Revised Emission Levels
| Original values (tons/day): VOC | Original values (tons/day): NOX | Revised values (tons/day): VOC | Revised values (tons/day): NOX
1990 Rate-of-progress Inventory | 126.1 | 116.9 | 144.0 | 132.7
1996 Emission Target Level | 101.8 | NA | 116.5 | NA
1999 Emission Target Level | 93.0 | 104.0 | 108.9 | 116.3

D. How Did Connecticut Account for Changes in Emissions Due to Growth?

Connecticut projected future year emissions based primarily on the State's 1996 periodic emission inventory. The State revised the 1996 on-road and off-road emissions in the periodic inventory using the updated methodologies previously discussed. Doing this ensures that no emission reduction credit, or emission increases, are shown in the ROP demonstration simply due to differences in emission estimation methodology for these two source categories.

Connecticut obtained most industrial growth factors from statewide employment projections obtained from the State's Department of Labor. The State used VMT projections provided by the State's Department of Transportation to project on-road mobile emissions, gasoline storage and marketing emissions, and asphalt paving emissions. Connecticut relied on the growth factors contained in the draft NON-ROAD model to project emissions for that source category. Statewide projected population data supplied by the U.S. Census Bureau was used to project emissions for most of the area source categories. Connecticut did not project NOX emission increases for EGUs and large non-utility EGU's due to the State's NOX budget program; VOC emission increases were projected for these sources.

E. What Emission Levels Must Connecticut Achieve By 2002, 2005, and 2007?

Table 4 below contains a summary of the 2002, 2005 and 2007 ROP calculations as performed by Connecticut in its post-1999 plans. The emission target levels are shown in step 6 of Table 4. The emission targets represent the maximum amount of emissions that can be emitted given the requirement of section 182(c)(2)(B) of the Act that reductions in ozone precursors occur at a rate of 9% averaged over every three year period, beginning after 1996 and ending with the area's attainment date. The post-1999 ROP plan submitted by Connecticut indicates that the projected, controlled emissions shown in Step 7 of Table 4 are well below the target levels calculated for each milestone year.

Table 4.—Summary of the 2002, 2005 and 2007 ROP Calculations
Description | 2002 VOC (tpsd) | 2002 NOX (tpsd) | 2005 VOC (tpsd) | 2005 NOX (tpsd) | 2007 VOC (tpsd) | 2007 NOX (tpsd)
Step 1—Calculate 1990 Base Year Inventory | 271.0 | 133.3 | 271.0 | 133.3 | 271.0 | 133.3
Step 2—Develop Rate-of-Progress Inventory (by subtracting biogenics and non-reactives) | −127.0 = 144.0 | −0.6 = 132.7 | −127.0 = 144.0 | −0.6 = 132.7 | −127.0 = 144.0 | −0.6 = 132.7
Step 3—Develop Adjusted Base Year Inventory by subtracting non-creditable FMVCP/RVP rdxns. between 1990-1999 | −9.5 = 134.5 | −12.1 = 120.7 | −9.75 = 134.3 | −12.36 = 120.4 | −9.79 = 134.2 | −12.5 = 120.3
Step 4—Calculate Required Reductions (sum of percent ROP rdxn. and FMVCP increment from prior milestone year to current milestone year.) | 9% 12.10 | 0% | 9% 12.08 | 0% | 5.26% 7.06 | 0.74% 0.89
| FMVCP 0.73 | FMVCP 1.15 | FMVCP 0.23 | FMVCP 0.30 | FMVCP 0.04 | FMVCP 0.10
Step 5—Calculate total expected reduction | 12.83 | 1.15 | 12.31 | 0.30 | 7.10 | 0.99
Step 6—Set Target Levels for 2002, 2005, and 2007 | 108.88 − 12.83 = | 116.33 − 115 = | 96.05 − 12.31 = | 115.18 − 0.30 = | 83.74 − 7.10 = | 114.88 − 0.99 =
Target level = previous milestone target minus required reductions. The 1999 targets are 108.88 for VOC, and 116.33 for NOX | 96.05 | 115.18 | 83.74 | 114.88 | 76.63 | 113.89
Step 7—Projected, Controlled Emissions | 89 | 98.2 | 80.2 | 83.1 | 76.6 | 76.8

F. To What Extent do Connecticut's Plans Reduce Ozone Precursor Emissions?

Connecticut's post-1999 ROP plan indicates that ozone precursor emissions will be substantially reduced by 2007. Compared to 1996 emission levels, VOC emissions are expected to decline by 40.7 tpsd, which represents a 35% decrease. NOX emissions are expected to decline by 39.1 tpsd, representing a 34% decrease in emissions from 1996.

G. How Will Connecticut Achieve These Emission Reductions?

The control strategy used to achieve the emission levels shown in step 7 of Table 4 couples the control strategy used in the State's 15 percent and post-1996 ROP plans with reductions from the measures described below.

1. NOX Budget Program

In September of 1999, Connecticut submitted a NOX emission control regulation to EPA that affects electric generating units and other large combustion sources. The citation for the regulation is 22a-174-22b; Post-2002 NOX Budget Program, and it is codified in the Regulations of Connecticut State Agencies. The rule was adopted in response to the Ozone Transport Committee's phase III NOX Memorandum of Understanding and the EPA's NOX SIP call, which was published in the Federal Register on October 27, 1998 (63 FR 57356.) The State's rule establishes a Statewide NOX budget, and establishes an allowance trading system. The NOX emissions cap established by the rule begins in the 2003 ozone season, which runs from the beginning of May to the end of June. The State's submittal was approved by EPA as a SIP strengthening measure on December 27, 2000 (65 FR 81743).

The State's NOX budget program establishes a Statewide budget cap of 4477 tons per ozone season beginning in 2003. This cap represents a 60% emission reduction from 1990 emission levels. In the State's portion of the NY-NJ-CT severe area, emissions from sources subject to the rule will be limited to 1720 tons per ozone season in emissions by 2003, compared to 5211 tons in 1990. On a typical summer day basis, the NOX cap in the State's portion of the NY-NJ-CT area equals 11.2 tons per summer day (tpsd). In total, the State's NOX emissions control program for large point sources, which consists of NOX RACT, the OTC NOX MOU, and the Post-2002 NOX Budget Program, will reduce NOX emissions from subject sources by 22. 8 tpsd by 2003 relative to 1990 levels in the State's portion of the NY-NJ-CT severe area. EPA proposes to approve the State's determination of emission reduction credits from its NOX emission control program.

2. Municipal Waste Combustor (MWC) Emission Limits

MWCs in Connecticut are subject to the requirements of Section 22a-174-38 of the Regulations of Connecticut State Agencies. This regulation was recently revised, effective October 26, 2000, with, among other things, more stringent NOX limits which MWC's must meet by May 1, 2003. Connecticut's post-1999 ROP SIP calculates that emissions from the one source subject to this rule located in the State's portion of the NY-NJ-CT area will realize a 0.76 tpsd emission reduction by 2003 relative to 1996 emission levels.⁸ Connecticut requested that EPA parallel process section 22a-174-38 in a submittal to EPA on June 4, 2001. In a separate action, EPA will be proposing to approve this rule.

⁸ Connecticut's MWC rule allows for emissions trading across the state to meet these NOX limits. Connecticut will be submitting an explanation of the statewide NOX reductions its MWC rule will achieve and how those reductions are consistent with its ROP plans.

3. On-Road Mobile Source Control Programs

Connecticut used the MOBILE5b model and VMT estimates supplied by the Connecticut Department of Transportation (CT-DOT) to estimate emission reductions from a variety of on-road mobile source programs. In addition to the on-road controls EPA approved in the state's 15 percent ROP and post-1996 ROP plans, (reformulated gasoline, tier 1, enhanced I/M, and CT-LEV), the State calculated emission reductions from phase II of the reformulated gasoline program, reductions from the final cut-points for the States enhanced I/M program, reductions from the combined effect of tier II automobile standards and low-sulfur in gasoline requirements, and phase I controls on heavy duty diesel engines. These programs are discussed further below. Connecticut projects that on-road mobile emissions will decline as shown in Table 5 due to these emission control measures.

Table 5.—On Road Mobile Emissions Trend (TPSD)
| 1996 | 2002 | 2005 | 2007
VOC (tpsd) | 30.5 | 15.2 | 11.4 | 9.7
NOX (tpsd) | 55.3 | 38.4 | 29 | 23.7

a. FMVCP Standards. Connecticut's projected, controlled on-road emission estimates include reductions from the federal “tier 2” emission standard program. EPA promulgated the final rule for this program on February 10, 2000 (65 FR 6698). The tier 2 standards affect sport utility vehicles (SUVs), minivans, and pick-up trucks, in addition to regular passenger vehicles. The requirements are phased in during 2004 to 2009. The success of the tier 2 program in achieving emission reductions is dependent on requirements that the petroleum industry lower the sulfur content of gasoline. Between 2004 to 2006, the sulfur content of gasoline must be reduced from approximately 300 ppm to 30 ppm. These lowered sulfur levels will allow proper functioning of the emission control systems implemented to meet the tier 2 standards.

b. Heavy Duty Engine Standards. On October 6, 2000 (65 FR 59895) EPA promulgated a final rule requiring emission reductions from on-road heavy duty engines. The rule's requirements include provisions that will reduce VOC and NOX emissions from gasoline and diesel fueled vehicles beginning in the 2004 to 2005 time-frame.

c. Reformulated Gasoline Program. Section 211 of the CAA requires sale of reformulated gasoline in the NY-NJ-CT severe area and other areas. Connecticut claimed emission reduction credit from phase I of the program, which began in 1995, in its 15 percent ROP plan. Phase II of the reformulated gasoline program began in 2000, and reduces both NOX and VOC emissions from on-road vehicles.

d. Enhanced Inspection and Maintenance Program. Section 182(c)(3) of the Act required Connecticut to adopt an enhanced vehicle emission inspection and maintenance (I&M) program. Connecticut began state-wide testing of motor vehicles at centralized facilities in January, 1998 using the ASM2525 procedure, which uses a treadmill to simulate travel at 25 mph at a 25% load. EPA approved the State's program in a final rule published in the Federal Register on October 27, 2000 (65 FR 64357.)

4. Federal Non-Road Control Programs

EPA has established emission standards for a variety of non-road engine categories that will reduce ozone precursor emissions over the time period covered by the Connecticut post-1999 ROP plans. These standards affect heavy duty compression ignition (diesel) engines, small non-road spark-ignition (gasoline) engines, large non-road gasoline engines, gasoline powered outboard and personal water-craft engines, commercial diesel marine engines, recreational stern-drive and inboard engines, and locomotives. Detailed information regarding each of these emission control programs is available on EPA's web-site at: www.epa.gov/otaq.

EPA has also created a non-road air emissions estimation model that can be used to calculate emissions from all non-road engines, except those used to power aircraft, locomotives, and large commercial marine vessels, for the present year and for past or future years. Although this model is not a final model, Connecticut DEP believes, and EPA agrees, that it provides a more accurate evaluation of air pollution emissions from non-road engines than the alternative emission estimation procedure available to the State, which consists of the aforementioned November 1991 NEVES study.

Table 6 illustrates the decline in non-road emissions Connecticut predicts will occur due to implementation of the various federal non-road engine controls. The estimates were derived from the draft non-road model, combined with individual emission estimates calculated for aircraft, commercial marine vessels (CMVs), and locomotives.

Table 6.—Non-Road Emissions Trend
| 1996 | 2002 | 2005 | 2007
VOC (tpsd) | 40.4 | 29.6 | 24.0 | 21.7
NOX (tpsd) | 33.0 | 33.7 | 32.5 | 31.4

H. Will These Emission Reductions Improve Air Quality in Connecticut?

Ozone levels declined in Connecticut during the 1990's due in part to emission reductions achieved by the State's prior ROP plans. Ozone levels should continue to decline in the future in light of the substantial emission reductions documented in the State's post-1999 ROP plan, commitments to adopt additional measures for attainment as discussed elsewhere in this document, and pollution control measures implemented by States upwind of Connecticut.

I. Has Connecticut Met Its Contingency Measure Obligation?

Connecticut has met its contingency measure obligation by using surplus emission reductions generated by the control measures in its post-1999 ROP plan. Connecticut's contingency obligation was calculated as 3 percent of its adjusted 1990 NOX base year inventory, which equals 3.6 tpsd. From Table 4, a comparison of the projected, controlled emission shown in step 7 with the emission targets shown in step 6 reveals that substantial surplus (beyond ROP) emission reductions exist for each milestone year that easily exceed the 3.6 tpsd contingency obligation. We are approving Connecticut's demonstration that it meets the contingency measure provision of section 182(c)(9) of the Act, which requires contingency measures for serious and above milestone failures.

Connecticut still must meet the contingency measure provision of section 172(c)(9) of the Act, which pertains to failure to attain the ozone standard by the required date, but EPA is not obligated to approve such measures prior to approving the attainment demonstration for the following reason. The EPA believes the contingency measure requirement of section 172(c)(9) is an independent requirement from the attainment demonstration requirements under sections 172(c)(1) and 182(c)(2)(A). The section 172(c)(9) contingency measure requirement addresses the event that an area fails to attain the ozone NAAQS by the attainment date established in the SIP and has no bearing on whether a state has submitted a SIP that projects attainment of the ozone NAAQS. The attainment SIP provides a demonstration that attainment ought to be reached, but the contingency measure SIP requirement of section 179(c)(9) concerns what is to happen only if attainment is not actually achieved. The EPA acknowledges that contingency measures are an independently required SIP revision, but does not believe that submission of contingency measures is necessary before EPA may approve an attainment SIP.

J. Are Transportation Conformity Budgets Contained in These Plans?

Transportation conformity is required by section 176(c) of the Clean Air Act, and EPA's transportation conformity rule requires that transportation plans, programs, and projects conform to state air quality implementation plans. Conformity to a SIP means that transportation activities will not produce new air quality violations, worsen existing violations, or delay timely attainment of the national ambient air quality standards. States are required to establish motor vehicle emissions budgets in any control strategy SIP that is submitted for attainment and maintenance of the national ambient air quality standards.

The June 4, 2001 post-1999 ROP plan submitted by Connecticut contained 2002, 2005 and 2007 budgets for nitrogen oxides ( NOX) and volatile organic compounds (VOCs) for the State's portion of the NY-NJ-CT severe area. Table 7 contains these NOX and VOC transportation conformity budgets in units of tons per summer day:

Table 7.—Conformity Budgets in the Post-1999 ROP Plan
| 2002 | 2005 | 2007
VOC (tpsd) | 15.20 | 11.42 | 9.69
NOX (tpsd) | 38.39 | 29.01 | 23.68

The 2007 budgets contained in the Connecticut post-1999 ROP plan match the budgets in the State's attainment demonstration for this area that were submitted on February 15, 2000. EPA issued a letter on May 31, 2000, finding these budgets adequate for use in transportation conformity determinations and published an announcement in the Federal Register on June 16, 2000, (65 FR 37778). These budgets became effective on July 3, 2000.

The 2002 and 2005 budgets, on the other hand, are new budgets established by the post-1999 ROP plan. The criteria by which we determine whether a SIP's motor vehicle emissions budgets are adequate for conformity purposes are outlined in 40 CFR 93.118(e)(4). New budgets must go though EPA's process for determining the adequacy of SIP motor vehicle emission budgets as delineated in the EPA's May 14, 1999 memo titled “Conformity Guidance on Implementation of March 2, 1999 Conformity Court Decision.”

In today's notice EPA is proposing to find the 2002 and 2005 budgets for VOC and NOX submitted on June 4, 2001 in Connecticut's post 1999 rate of progress plan adequate for use in transportation conformity determinations. However, before making an affirmative adequacy finding, EPA must open a 30 day public comment period for all new mobile source vehicle emission budgets. Today's action opens the required 30 day comment period on the adequacy of these budgets, and the comment period will close September 10, 2001. During this comment period, the public can comment on the adequacy of the budgets and any other aspect of the SIP, by submitting comments to EPA as indicated in the ADDRESSES section of this proposal. After examining any comments received on the adequacy of the budgets, EPA will proceed to respond to those comments and will make a final decision on the adequacy of the budgets. EPA will publish a notice of adequacy within a reasonable time frame after the 30 day comment period closes.

As we proposed on July 28, 2000 (65 FR 46383), the attainment budgets that we are proposing to approve today would be effective for conformity purposes only until revised MOBILE6 attainment motor vehicle emissions budgets are submitted and we have found them adequate. The revised MOBILE6 attainment budgets will apply for conformity purposes as soon as we find them adequate.

We are limiting the duration of our approval in this manner because we are only approving the attainment demonstrations and their budgets because the States have committed to revise them with MOBILE6. Therefore, once we have confirmed that the revised MOBILE6 budgets are adequate, they will be more appropriate than the budgets we are proposing to approve for conformity purposes now.

EPA is also proposing approval of the 2002, 2005 and 2007 budgets for nitrogen oxides and volatile organic compounds for the State's portion of the NY-NJ-CT severe area.

K. Will Any Modifications Be Made to Connecticut's Plan?

It is possible that modifications will be made to the Connecticut post-1999 ROP plan pursuant to comments made during the public hearing for these SIP revisions, which was held July 10, 2001. Additionally, during the course of reviewing the State's draft plan we noted several minor adjustments that the State should make to the plan, and have been notified by the State that our requested revisions will be made to the final document submitted to EPA. The adjustments we are recommending will not cause the State's projected, controlled emissions to exceed any of the ROP milestones. Additionally, given the substantial amount of surplus emission reductions achieved by the State's post-1999 ROP plan we find it unlikely that any revisions made pursuant to the public hearing process would jeopardize Connecticut's demonstration that it can meet its 2002, 2005 and 2007 emission target levels. Our suggested changes to the Post-1999 ROP plan are contained in a July 10, 2001 letter to the CT DEP.

IV. Reasonably Available Control Measure (RACM) Analysis

A. What Are the Requirements for RACM Technology?

Section 172(c)(1) of the Act requires SIPs to contain RACM as necessary to provide for attainment as expeditiously as practicable. EPA has previously provided guidance interpreting the RACM requirements of section 172(c)(1). See 57 FR 13498, 13560. In that guidance, EPA stated that potentially available measures that would not advance the attainment date for an area would not be considered RACM. EPA also indicated in the guidance that states should consider all potentially available measures to determine whether they were reasonably available for implementation in the area, and whether they would advance the attainment date. Further, states should indicate in the SIP submittals whether the measures considered are reasonably available or not, and if the measures are reasonably available, they must be adopted as RACM. Finally, EPA indicated that states could reject potential RACM either because they would not advance the attainment date or would cause substantial widespread and long-term adverse impacts. States could also consider local conditions, such as economics or implementation concerns, in rejecting potential RACM. The EPA also issued a recent memorandum on this topic, “Guidance on the Reasonably Available Control Measures (RACM) Requirement and Attainment Demonstration Submissions for Ozone Nonattainment Areas,” John S. Seitz, Director, Office of Air Quality Planning and Standards, November 30, 1999.

B. What Did Connecticut Submit?

On August 2, 2001, the CT-DEP submitted the draft document, Reasonably Available Control Measures (RACM) Analysis for the Connecticut Portion of the NY-NJ-CT Severe Ozone Nonattainment Area, and requested that EPA parallel process it as a revision to the State's SIP. The document is in draft form, and comments on its content can be made directly to the CT-DEP using the address located in the Addresses portion of this document, as well as to EPA in comments on this proposal.

C. How Does the State Analysis Address the RACM Requirement?

The Connecticut RACM analysis discusses the reasonableness and effectiveness of both additional transportation control measures and additional stationary source control measures. As explained below, the state concludes that there are no control measures, above and beyond what the state is already implementing, that would advance the Act's specified attainment date of 2007. Furthermore, the reductions from any potential additional RACM measures are very small compared to the ROP reductions that will be reached by 2007.

1. Consideration and Implementation of Transportation Control Measures (TCMs)

This section describes the analysis the state submitted to evaluate and implement available transportation control measures (TCMs) in the Connecticut portion of the NY-NJ-CT severe area. In Connecticut, the identification, evaluation, selection, and implementation of TCM's takes place as a regular component of the statewide transportation planning process. The Connecticut Department of Transportation (CT-DOT), in collaboration with the various urban and rural Regional Planning Organizations (RPO's) and other interested parties, produces annual updates to the Statewide Transportation Improvement Program (STIP), documenting projects to be funded under federal transportation programs for a three-year period. The STIP includes investments in various modes, such as transit, highways, and bicycle facilities. The most recent STIP, produced in July 2001, allocates about one-third of total funding for fiscal years 2001, 2002, 2003 ($790 million out of $2,455 million) to expand and maintain numerous rail, bus, rideshare, and other transit-related programs and projects.

One source of funding for TCM's contained in the STIP is the Congestion Mitigation and Air Quality (CMAQ) Program, as delineated in the federal Transportation Equity Act for the 21st Century (TEA-21). The CMAQ Program was established to address traffic congestion and vehicle emissions contributing to air quality nonattainment problems. CT-DOT works cooperatively with the RPO's, transit agencies, and State and local air quality agencies to identify and select appropriate projects for CMAQ funding. In 1999, state legislation was passed mandating that at least 70% of CMAQ funding received under TEA-21 be spent in the Southwest Connecticut severe ozone nonattainment area.

Section 108(f) of the Clean Air Act lists 16 potential types of TCM's. Connecticut's STIP includes measures from most of the Section 108(f) categories. For purposes of analyzing whether any additional TCMs exist in Connecticut that could be considered RACM, CT-DEP performed an analysis of the most significant existing TCMs in the STIP to quantify the magnitude of emission reductions they achieve. These TCMs included addition of 1,000 new parking spaces at a New Haven rail-stop, ride-share projects, incident management projects, the employee commute option program, and coordinated signal systems. The State determined that these measures would reduce VOC and NOX emissions combined by approximately 0.44 tpsd, which is less than 1% of the total amount of emission reductions needed in the State's portion of the NY-NJ-CT severe area to reach attainment.

CT-DEP then analyzed the potential emission reductions that could be achieved from the following set of aggressive, hypothetical TCMs: a 12% reduction in the number of drive alone work trips, a 6.3% increase in the work at home rate, and a 4.5% increase in commuter rail use. The State determined that these aggressive measures would only achieve approximately 1.6 tpsd in emission reductions, which again is far less than the reductions needed for the area to reach attainment, which will be supplied by all of the measures in the submitted SIP, to be fully implemented in time to reach attainment by 2007. Therefore, CT-DEP concludes that even if these aggressive TCMs could be implemented, doing so would not allow the State to achieve the NAAQS sooner than 2007, when all other SIP measures will be in place, and therefore these measures are not considered RACM.

2. Stationary Source and Area Sources RACM Analysis

EPA provided the CT-DEP with an analysis of numerous potential stationary source RACM measures that could conceivably be considered RACM. For this analysis, EPA assumed that stationary source categories that have already been controlled nationally, regionally or locally in the SIP would not be effective candidates for additional controls that could be considered RACM, since these categories have only recently installed their level of control or are about to shortly. Source categories and their emissions were identified that would not be subject to control in 2007 after the other national, regional and SIP controls were accounted for. These source categories were then ranked on the basis of emissions by category. Based on this analysis, the CT DEP concluded, as described below, that these measures would either (a) likely require an intensive and costly effort for numerous small area sources, or (b) not advance the attainment date in the area. This conclusion is reached primarily because the reductions expected to be achieved by the potential RACM measures are relatively small, and are far less than the emissions reductions needed within the nonattainment areas to reach attainment.

a. Stationary Source NOX RACM Analysis. From the analysis provided by EPA, CT-DEP observed that total emissions from the top 80% of the NOX stationary source categories that will not be controlled in Connecticut in 2007 amount to only 8.2 tpsd. The kinds of source categories with the most emissions available for control (e.g., residential distillate oil and gas combustion; commercial/institutional gas combustion) generally affect area sources, which are smaller and numerous. Requiring NOX control on these sources would therefore likely require an intensive, costly effort. All of the remaining uncontrolled source categories in 2007 have less than 1 tpsd in NOX emissions, and thus would not provide sufficient emission reduction to advance the attainment date. As a result, controls on these categories are not considered reasonably available.

b. Stationary Source VOC RACM Analysis. Connecticut DEP's review of the analysis provided by EPA found that the State, via its long history of implementation of VOC control regulations, has already adopted rules that cover all of the VOC source categories with significant emissions. A review of the State's stationary source VOC inventory did not reveal any source categories that could, through regulation, yield substantial emission reductions, with the possible exception of the Ozone Transport Commission (OTC) measures listed below.

The OTC has developed model rules for the following VOC source categories: architectural and industrial maintenance coatings, consumer products, portable fuel containers, mobile equipment repair and refinishing, and solvent cleaning. CT-DEP announced in its July 2001 draft SIP revision that it is evaluating the model rules to determine those that may be most appropriate for adaptation into Connecticut regulations. To assist with this effort, CT-DEP is soliciting public comment on each of the model rules. Comments are requested regarding the technical feasibility, cost, and air quality benefits of each rule. CT-DEP will provide additional opportunity for public comment on specific regulatory language that may be proposed in the future to implement any of these OTC model rules.

It is estimated that if all of the OTC's VOC model rules are adopted, VOC emissions could be reduced by approximately 10 tpsd in Fairfield county, which forms the majority of the Connecticut portion of the NY-NJ-CT severe area. CT-DEP already intends to adopt at least some of these rules to cover its VOC attainment demonstration shortfall addressed elsewhere in this document. The remaining available VOC reductions from these potential OTC rules, after Connecticut meets its shortfall commitment, would be far less than the reductions from existing SIP measures to be implemented by 2007 to reduce ozone levels in Connecticut to a level consistent with attainment, as illustrated in the zero-out modeling discussion below. Thus, Connecticut concluded that the implementation of additional OTC rules beyond those needed to fill the shortfall would not serve to advance attainment.

During the development of the attainment demonstration for Connecticut's portion of the NY-NJ-CT area, a modeling run was done where the 1999 projected emissions in Connecticut were zeroed out, while all other emissions and modeling inputs remained the same. This zero out run represented a reduction in Connecticut emissions of 493.9 tons per day of VOC, and 372.6 tons per day of NOX. The affect of zeroing out Connecticut's anthropogenic emissions shows that this would have very little effect on both the magnitude and the geographical extent of maximum ozone concentrations within Connecticut. Approximately 95% of the state would experience reductions in peak ozone levels of less than 1 part per billion (ppb), on a scale where the air quality standard is 125 ppb, even with this substantial emission reduction. Therefore, CT-DEP concludes that the relatively small emission reductions available from the OTC's VOC model rules beyond those that Connecticut will be adopting to fill its shortfall are not RACM because they would not advance the area's attainment date. Nonetheless, Connecticut is considering adoption of the OTC measures into its SIP.

Within the Connecticut post-1999 rate-of-progress analysis, the State shows that between 2000 and 2007 VOC emissions will be reduced by 32.3 tpsd, and NOX emissions by 39.5 tpsd. A significant portion of the substantial emission reductions documented in Connecticut's post-1999 ROP plan are due to the gradual vehicle and off-road equipment fleet turnover to newer technology between 2000 and 2007, and to the NOX controls associated with the NOX SIP Call, the requirements for which will be effective by 2003. Given the magnitude of the reductions from these programs expected between now and the State's 2007 attainment date, the state concludes that no further stationary or mobile source control measures beyond those considered in the attainment demonstration and those to be submitted to fill the shortfall could accelerate the state's attainment date to a time-frame earlier than 2007.

Connecticut's attainment demonstration documents the need for a reduction in emissions in upwind areas in order for the State to attain the one hour ozone standard by 2007. Although a large part of those reductions will occur in the 2003 to 2004 time-frame due to implementation of the NOX SIP Call, additional upwind reductions will occur in the 2005 to 2007 time-frame as the above mentioned on-road and off-road mobile source fleet turnover reductions occur and local upwind controls are implemented. For example, in the New York and New Jersey portions of the NY-NJ-CT area, 13.5 tpsd of VOC emission reductions and 23.6 tpsd of NOX reductions are projected to occur between 2005 and 2007. These and other upwind reductions will have a greater impact on improving air quality in Connecticut than the marginal amount of emission reductions the State could achieve by implementing additional potential RACM controls.

Additionally, the photochemical modeling accompanying the state submittal shows that ozone concentrations in Connecticut stem from both local and regional emissions. NOX and VOC emissions in the Connecticut portion of the modeling domain represent a small portion of regional emissions and since the state has already implemented all emission control programs as required by the Act for severe areas, Connecticut believes based on the above analysis that there are no reasonable control measures available to the state that will accelerate attainment of the standard. This conclusion is supported by the zero out modeling run discussed above.

D. Does the Connecticut Attainment Demonstration Submittal Meet the RACM Requirement?

The EPA has reviewed the submitted attainment demonstration documentation, the process used by the control agencies to review and select TCMs, other possible reduction measures for point and area sources, and the emissions inventory for the Connecticut severe area. Although EPA encourages areas to implement available RACM measures as potentially cost effective methods to achieve emissions reductions in the short term, EPA does not believe that section 172(c)(1) requires implementation of potential RACM measures that either require costly implementation efforts or produce relatively small emissions reductions that will not be sufficient to allow the area to achieve attainment in advance of full implementation of all other required measures. This conclusion concerning further TCM's addresses only EPA's finding that they would not advance the ozone attainment date. There are many other reasons that an area might find it appropriate to implement TCMs, such as congestion mitigation or sprawl management.

The attainment demonstration for the Connecticut portion of the NY-NJ-CT severe nonattainment areas indicates that the ozone benefit expected from regional NOX reductions is substantial. In addition, many of the measures designed to achieve emissions reductions from within the nonattainment area will not be fully implemented prior to the 2007 nonattainment date. Therefore, EPA concludes, based on the available documentation, that since the reductions from potential RACM measures do not nearly equate to the reductions needed to demonstrate attainment, none of the measures could advance the attainment date prior to full implementation of the SIP call and full implementation of the ROP measures, and thus there are no additional potential local measures that can be considered RACM for this area.

V. Proposed Action

We are proposing full approval of SIP revisions that relate to attainment of the one-hour ozone standard in the Connecticut portion of the NY-NJ-CT severe area. The SIP revisions are Connecticut's one hour ozone attainment demonstration for the State's portion of the NY-NJ-CT severe area, including various enforceable commitments and the post-1999 ROP plan. Connecticut's one hour ozone attainment demonstration includes 2007 motor vehicle emissions budgets, which are being proposed for approval. The enforceable commitments we are proposing to approve include: (1) A commitment to adopt and submit by October 31, 2001, additional necessary regional control measures to offset the emission reduction shortfall in order to attain the one-hour ozone standard by November, 2007; (2) a commitment to adopt and submit by October 31, 2001, additional necessary intrastate control measures to offset the emission reduction shortfall in order to attain the one-hour ozone standard by November, 2007; (3) a commitment to revise the attainment-level 2007 motor vehicle emissions budgets within one year of the date that EPA releases the final version of their motor vehicle emissions model, MOBILE6; (4) a commitment to recalculate and submit revised motor vehicle emissions budgets if any additional motor vehicle control measures are adopted to address the shortfall; and (5) a commitment to perform a mid-course review of the attainment status of the 1-hour ozone severe nonattainment area and the Greater Connecticut serious area by December 31, 2004. Also, EPA is proposing to approve the motor vehicle emissions budgets for 2002 and 2005 contained in Connecticut's post-1999 ROP plan for transportation conformity purposes.

EPA is soliciting public comments on the issues discussed in this notice. All comments will be considered before taking final action on the attainment demonstration, including ROP, for the Connecticut portion of the NY-NJ-CT nonattainment area. Interested parties may participate in the Federal rulemaking procedure by submitting written comments to the EPA-New England office listed in the ADDRESSES section of this notice.

Nothing in this action should be construed as permitting or allowing or establishing a precedent for any future request for revision to any State implementation plan. Each request for revision to the State implementation plan shall be considered separately in light of specific technical, economic, and environmental factors and in relation to relevant statutory and regulatory requirements.

VI. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.)

List of Subjects in 40 CFR Part 52

Environmental protection, Air pollution control, Carbon monoxide, Hydrocarbons, Incorporation by reference, Intergovernmental relations, Nitrogen dioxide, Ozone, Particulate matter, Reporting and recordkeeping requirements, Sulfur oxides.

Authority: 42 U.S.C. 7401 et seq.

Dated: August 3, 2001.
Ira W. Leighton,
Acting Regional Administrator, EPA-New England.

[FR Doc. 01-20142 Filed 8-9-01; 8:45 am]

BILLING CODE 6560-50-P